SECURITIES AND EXCHANGE COMMISSION

[Release No. 34-56065; File No. SR-NYSE-2007-60]

Self-Regulatory Organizations; New York Stock Exchange LLC; Notice of Filing and Immediate Effectiveness of Proposed Rule Change To Charge Member Organizations a Routing Fee for Orders Routed to Other Markets for Execution

July 13, 2007.

Pursuant to Section 19(b)(1) of the Securities Exchange Act of 1934 (the “Act”),¹ and Rule 19b-4 thereunder,² notice is hereby given that on June 29, 2007, the New York Stock Exchange LLC (“NYSE” or “Exchange”) filed with the Securities and Exchange Commission (“Commission”) the proposed rule change as described in Items I, II, and III below, which Items have been substantially prepared by the NYSE. The NYSE has designated this proposal as one establishing or changing a due, fee, or other charge imposed by the NYSE under Section 19(b)(3)(A)(ii) of the Act,³ and Rule 19b-4(f)(2) thereunder,⁴ which renders the proposal effective upon filing with the Commission. The Commission is publishing this notice to solicit comments on the proposed rule change from interested persons.

¹ 15 U.S.C. 78s(b)(1).

² 17 CFR 240.19b-4.

³ 15 U.S.C. 78s(b)(3)(A)(ii).

⁴ 17 CFR 240.19b-4(f)(2).

I. Self-Regulatory Organization's Statement of the Terms of Substance of the Proposed Rule Change

The NYSE proposes to charge its member organizations a fee of $0.0025 per share in equity transactions and $0.0030 per share in transactions in exchange traded fund (“ETF”) securities where those orders are executed in another market on the Exchange's behalf by Archipelago Securities LLC (“Arca Securities”) as a routing broker. The text of the proposed rule change is available on the NYSE's Web site (http://www.nyse.com), at the principal office of the NYSE, and at the Commission's Public Reference Room.

II. Self-Regulatory Organization's Statement of the Purpose of, and Statutory Basis for, the Proposed Rule Change

In its filing with the Commission, the NYSE included statements concerning the purpose of, and basis for, the proposed rule change and discussed any comments it received on the proposed rule change. The text of these statements may be examined at the places specified in Item IV below. The NYSE has prepared summaries, set forth in Sections A, B, and C below, of the most significant aspects of such statements.

A. Self-Regulatory Organization's Statement of the Purpose of, and Statutory Basis for, the Proposed Rule Change

1. Purpose

The Exchange proposes to charge its member organizations a fee of $0.0025 per share in equity transactions (the “Equity Routing Fee”) and $0.0030 per share in ETF transactions (the “ETF Routing Fee,” and, together with the Equity Routing Fee, the “Routing Fees”) where those orders are executed in another market on the Exchange's behalf by Arca Securities as a routing broker.

The Exchange proposes to set the Routing Fees at the same level as linkage order fees (“Linkage Order Fees”) that the Exchange has been charging for transactions routed away to other markets pursuant to the “Plan for the Purpose of Creating and Operating an Intermarket Communications Linkage” (the “Linkage Plan”). The Linkage Plan expired by its terms on June 30, 2007, and the Exchange will now route all orders it is required to send to other markets by utilizing Arca Securities as a routing broker. This filing clarifies that, once the Linkage Plan is no longer in effect, Entering Firms will continue to be charged a Routing Fee in the same amount as the predecessor Linkage Order Fee for orders routed to other markets. Arca Securities will be billed by the destination markets for orders entered on the Exchange by Entering Firms but routed to other markets for execution. The Exchange will assume responsibility for fees paid by Arca Securities to other markets in its capacity as the Exchange's Routing Broker. The Exchange proposes to bill each Entering Firm the applicable Routing Fee in order to recover these expenses.

2. Statutory Basis

The Exchange believes that the proposed rule change is consistent with the objectives of Section 6 ⁵ of the Act ⁶ in general and furthers the objectives of Section 6(b)(4) ⁷ in particular, in that it is designed to provide for the equitable allocation of reasonable dues, fees and other charges among its members and other persons using its facilities. The fee is intended to permit the Exchange to recover fees billed to Arca Securities by other markets for orders executed in other markets.

⁵ 15 U.S.C. 78f.

⁶ 15 U.S.C. 78a.

⁷ 15 U.S.C. 78f(b)(4).

B. Self-Regulatory Organization's Statement on Burden on Competition

The Exchange does not believe that the proposed rule change will impose any burden on competition that is not necessary or appropriate in furtherance of the purpose of the Act.

C. Self-Regulatory Organization's Statement on Comments on the Proposed Rule Change Received From Members, Participants or Others

Written comments were neither solicited nor received.

III. Date of Effectiveness of the Proposed Rule Change and Timing for Commission Action

The foregoing rule change has become effective pursuant to Section 19(b)(3)(A) of the Act ⁸ and Rule 19b-4(f)(2) ⁹ thereunder because it involves a member fee imposed by the Exchange. At any time within 60 days of the filing of such proposed rule change, the Commission may summarily abrogate such rule change if it appears to the Commission that such action is necessary or appropriate in the public interest, for the protection of investors, or otherwise in furtherance of the purposes of the Act.

⁸ 15 U.S.C. 78s(b)(3)(A).

⁹ 17 CFR 240.19b-4(f)(2).

IV. Solicitation of Comments

Interested persons are invited to submit written data, views, and arguments concerning the foregoing, including whether the proposed rule change is consistent with the Act. Comments may be submitted by any of the following methods:

Electronic Comments

• Use the Commission's Internet comment form (http://www.sec.gov/rules/sro.shtml); or

• Send an e-mail to rule-comments@sec.gov. Please include File Number SR-NYSE-2007-60 on the subject line.

Paper Comments

• Send paper comments in triplicate to Nancy M. Morris, Secretary, Securities and Exchange Commission, 100 F Street, NE., Washington, DC 20549-1090.

All submissions should refer to File Number SR-NYSE-2007-60. This file number should be included on the subject line if e-mail is used. To help the Commission process and review your comments more efficiently, please use only one method. The Commission will post all comments on the Commission's Internet Web site (http://www.sec.gov/rules/sro.shtml). Copies of the submission, all subsequent amendments, all written statements with respect to the proposed rule change that are filed with the Commission, and all written communications relating to the proposed rule change between the Commission and any person, other than those that may be withheld from the public in accordance with the provisions of 5 U.S.C. 552, will be available for inspection and copying in the Commission's Public Reference Room, 100 F Street, NE., Washington, DC 20549, on official business days between the hours of 10 a.m. and 3 p.m. Copies of such filing also will be available for inspection and copying at the principal office of the NYSE. All comments received will be posted without change; the Commission does not edit personal identifying information from submissions. You should submit only information that you wish to make available publicly. All submissions should refer to File Number SR-NYSE-2007-60 and should be submitted on or before August 9, 2007.

For the Commission, by the Division of Market Regulation, pursuant to delegated authority.¹⁰
¹⁰ 17 CFR 200.30-3(a)(12).
Nancy M. Morris,
Secretary.

[FR Doc. E7-13960 Filed 7-18-07; 8:45 am]

BILLING CODE 8010-01-P